DEPARTMENT OF VETERANS AFFAIRS

Performance Review Board Members

AGENCY: Corporate Senior Executive Management Office, Department of Veterans Affairs.

ACTION: Notice.

SUMMARY: Under the provisions of 5 U.S.C. 4314(c)(4) agencies are required to publish a notice in the Federal Register of the appointment of Performance Review Board (PRB) members. This notice announces the appointment of persons to serve on the Performance Review Board of the Department of Veterans Affairs.

DATES: Effective Date: December 4, 2012.

FOR FURTHER INFORMATION CONTACT: Christine Kluh, Deputy Assistant Secretary, Corporate Senior Executive Management Office (052), Department of Veterans Affairs, 810 Vermont Avenue NW., Washington, DC 20420, (202) 461-7890.

SUPPLEMENTARY INFORMATION: The membership of the Department of Veterans Affairs Performance Review Board is as follows:

Primary Board Members

Jose Riojas, Assistant Secretary for Operations, Security, and Preparedness: Chairperson

Michael Cardarelli, Principal Deputy Under Secretary for Benefits, Veterans Benefits Administration

Laura Eskenazi, Principal Deputy Vice Chairman, Board of Veterans' Appeals

Robert Jesse, Principal Deputy Under Secretary for Health, Veterans Health Administration

Helen Tierney, Executive Director, Operations, Office of Management

Clarence Johnson, Principal Director and Director for Civilian Equal Employment Opportunity, Office of the Deputy Under Secretary of Defense (Equal Opportunity), Department of Defense: External Member

Alternate Board Members

Steve Muro, Under Secretary for Memorial Affairs: Alternate Chair

Meghan Flanz, Associate General Counsel for Strategic Planning and Education, Office of General Counsel

Diana Rubens, Associate Deputy Under Secretary for Field Operations, Office of Field Operations, Veterans Benefits Administration

William Schoenhard, Deputy Under Secretary for Health for Operations and Management, Veterans Health Administration

Robert Snyder, Principal Deputy Assistant Secretary, Office of Policy and Planning

Dated: November 28, 2012.
John R. Gingrich,
Chief of Staff, Department of Veterans Affairs.

[FR Doc. 2012-29231 Filed 12-3-12; 8:45 am]

BILLING CODE 8320-01-P